NUCLEAR REGULATORY COMMISSION

[Docket No. 030-36492; NRC-2010-0057]

Notice of Environmental Assessment Related to the Issuance of a License Amendment to Byproduct Material License No. 12-32489-01, for the Unrestricted Release of a Former Facility for Department of the Army, Great Lakes, IL

AGENCY: Nuclear Regulatory Commission.

ACTION: Issuance of Environmental Assessment and Finding of No Significant Impact for license amendment.

FOR FURTHER INFORMATION CONTACT: Katie Streit, Health Physicist, Materials Control, ISFSI, and Decommissioning Branch, Division of Nuclear Materials Safety, Region III, U.S. Nuclear Regulatory Commission, 2443 Warrenville Road, Lisle, Illinois 60532; Telephone: (630) 829-9621; fax number: (630) 515-1259; or by e-mail at Katherine.Streit@nrc.gov.

SUPPLEMENTARY INFORMATION:

I. Introduction

The U.S. Nuclear Regulatory Commission (NRC) is considering the issuance of an amendment to terminate NRC Byproduct Materials License No. 12-32489-01, which is held by Department of the Army, (the licensee) U.S. Army Dental Research Detachment. The issuance of the amendment would approve the licensee's September 29, 2009, request (ML092730395) to release for unrestricted use its building located at 310B, B Street, Building 1-H, Great Lakes, Illinois (the Facility).

The NRC has prepared an Environmental Assessment (EA) in support of this proposed action in accordance with the requirements of Title 10, Code of Federal Regulations (CFR), Part 51 (10 CFR 51). Based on the EA, the NRC has concluded that a Finding of No Significant Impact (FONSI) is appropriate with respect to the proposed action. The amendment will be issued to the licensee following the publication of this FONSI and EA in the Federal Register.

II. Environmental Assessment

Identification of Proposed Action

The proposed action would approve the licensee's September 29, 2009, license amendment request, resulting in the release of the Facility for unrestricted use consistent with the provisions of 10 CFR Part 20, Subpart E. The licensee was issued License No. 12-32489-01 on April 9, 2004, pursuant to 10 CFR Part 30 and was amended once on November 7, 2005. The Facility is a 400 square foot research laboratory located in the basement. The license authorized the use of unsealed Hydrogen-3 and Carbon-14 for use during in-vitro research labeling activities. However, through review of license file documents, inspection reports, and the amendment request, it was confirmed that Hydrogen-3 was the only licensed material used in the facility.

The licensee permanently ceased licensed activities at the Facility in September 2009 and initiated a final status survey of the facility. The licensee was not required to submit a decommissioning plan to NRC because worker cleanup activities and surveys are consistent with those approved for routine operations. The licensee submitted a Historical Site Assessment and Final Status survey dated September 29, 2009 (ML092730395) to the NRC which demonstrated that the Facility meets the criteria in Subpart E of 10 CFR Part 20 for unrestricted use.

Need for the Proposed Action

The licensee has ceased conducting license activities at the Facility, and seeks the unrestricted use of the Facility.

Environmental Impacts of the Proposed Actions

The licensee's historical review of past research activities determined that Hydrogen-3 was the only radionuclide used in the Facility. The final status survey of the Facility was performed during September 2009. The final status survey results were attached to the Licensee's amendment request dated September 29, 2009 (ML092730395). The NRC evaluated the licensee's compliance with the radiological criteria for unrestricted use as specified in 10 CFR 20.1402 by using the screening approach described in NUREG-1757, “Consolidated Decommissioning Guidance,” Volume 1. The NRC NUREG specifies radionuclide-specific Derived Concentration Guideline Levels (DCGLs), developed by the NRC, which comply with the dose criterion in 10 CFR 20.1402. The DCGLs define the maximum amount of residual radioactivity on surfaces that will satisfy the NRC requirements in Subpart E of 10 CFR Part 20 for unrestricted use. The Licensee's final status survey results were well below these DCGLs and are in compliance with the As Low as Reasonably Achievable (ALARA) requirement of 10 CFR 20.1402. The NRC thus finds that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material at the Facility.

The NRC staff reviewed the docket file records and the final status survey report to identify any non-radiological hazards that may have impacted the environment surrounding the Facility. No such hazards or impacts to the environment were identified. The NRC has identified no other radiological or non-radiological activities in the area that could result in cumulative environmental impacts.

The NRC staff finds that the proposed release of the Facility for unrestricted use is in compliance with 10 CFR 20.1402. Based on its review, the staff considered the impact of the residual radioactivity at the Facility and concluded that the proposed action will not have a significant effect on the quality of the environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d) requiring that decommissioning of byproduct material facilities be completed and approved by the NRC after licensed activities cease. The NRC's analysis of the licensee's final status survey data confirmed that the Facility meets the requirements of 10 CFR 20.1402 for unrestricted use. Additionally, denying the amendment request would result in no change in current environmental impacts. The environmental impacts of the proposed action and the no-action alternative are therefore similar, and the no-action alternative is accordingly not further considered.

Agencies and Persons Consulted

NRC provided a draft of this Environmental Assessment to the Illinois Emergency Management Agency (IEMA) for review on December 28, 2009. IEMA had no comments or questions.

Conclusion

The NRC staff has concluded that the proposed action is consistent with the NRC's unrestricted use criteria specified in 10 CFR 20.1402. Because the proposed action will not significantly impact the quality of the human environment, the NRC staff concludes that the proposed action is the preferred alternative.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's image files of NRC's public documents. If you do not have access to ADAMS, or if there are problems in accessing the documents located in ADAMS, contact the NRC Public Document Room (PDR) Reference staff at 1-800-397-4209, 301-415-4737, or by e-mail to pdr.resource@nrc.gov. The documents related to this action are listed below, along with their ADAMS accession numbers.

1. Department of the Army License Termination Request dated September 29, 2009 (ADAMS Accession No. ML092730395).

2. Title 10 Code of Federal Regulations, Part 20, Subpart E, “Radiological Criteria for License Termination.”

3. Title 10 Code of Federal Regulations, Part 51, “Environmental Protection Regulations for Domestic licensing and Related Regulatory Function.”

3. NUREG-1757, Consolidated Decommissioning Guidance.

These documents may also be viewed electronically on the public computers located at the NRC's PDR, O1F21, One White Flint North, 11555 Rockville Pike, Rockville, MD 20852. The PDR reproduction contractor will copy documents for a fee.

Dated at Lisle, Illinois, this 11th day of February 2010.
For the Nuclear Regulatory Commission.
Christine A. Lipa,
Chief, Materials Control, ISFSI, and Decommissioning Branch, Division of Nuclear Materials Safety, Region III.

[FR Doc. 2010-3353 Filed 2-19-10; 8:45 am]

BILLING CODE 7590-01-P